DEPARTMENT OF COMMERCE

National Oceanic and Atmospheric Administration

50 CFR Part 648

[Docket No. 151211999-6343-02]

RIN 0648-XG900

Fisheries of the Northeastern United States; Northeast Multispecies Fishery; Common Pool Measures for Fishing Year 2019

AGENCY: National Marine Fisheries Service (NMFS), National Oceanic and Atmospheric Administration (NOAA), Commerce.

ACTION: Temporary rule; possession and trip limit implementation.

SUMMARY: This action implements measures for Northeast multispecies common pool vessels for the 2019 fishing year. This action is necessary to ensure that the Northeast multispecies common pool fishery may achieve the optimum yield (OY) for the relevant stocks, while controlling catch to help prevent inseason closures or quota overages. These measures include possession and trip limits and the allocation of zero trips into the Closed Area II Yellowtail Flounder/Haddock Special Access Program for common pool vessels to target yellowtail flounder.

DATES: Effective at 0001 hours on May 1, 2019, through April 30, 2020.

FOR FURTHER INFORMATION CONTACT: Spencer Talmage, Fishery Management Specialist, 978-281-9232.

SUPPLEMENTARY INFORMATION: The Northeast Multispecies Fishery Management Plan (FMP) regulations give the Regional Administrator the authority to implement certain types of management measures for the common pool fishery, the U.S. Canada Management Area, and Special Management Programs. This action implements a number of these management measures for the 2019 fishing year, effective May 1, 2019.

Common Pool Trip Limits

The possession and trip limits for the 2019 fishing year are included in Tables 1 and 2 below. These possession and trip limits were developed based on the common pool sub-Annual Catch Limits (sub-ACLs) set by Framework Adjustment 57 to the Northeast Multispecies FMP that will be in effect on May 1, 2019. We also considered preliminary 2019 sector rosters, expected common pool participation, and common pool fishing activity in previous fishing years. Based on that information, we project that these adjustments will facilitate optimized harvest of the common pool quotas, while preventing early trimester closures, and preventing catch from exceeding the 2019 fishing year sub-ACLs.

The 2019 possession and trip limits are the same as the current 2018 limits, with the exception of Gulf of Maine (GOM) haddock and GOM cod. The limits for GOM haddock are reduced relative to the current 2018 limits to prevent early stock area closures in Trimester 1, as occurred in 2018. The GOM cod limits are also reduced relative to current common pool possession and trip limits. On March 13, 2019, we published an inseason action to increase the GOM cod possession and trip limits for the common pool fishery to 100 lb (45 kg) per day-at-sea (DAS), up to 200 lb (91 kg) per trip, through April 30, 2019 (84 FR 8998). We increased the possession limit because we projected that the common pool fishery would not fully harvest its sub-ACL for GOM cod by the end of the 2018 fishing year. The limits for GOM cod are reduced relative to the current 2018 limits for the stock because they are based on our projection for the entire 2019 fishing year.

For Handgear A and Handgear B vessels, possession and trip limits for Georges Bank (GB) and GOM cod are tied to the possession and trip limits for groundfish days-at-sea DAS vessels. The default cod trip limit is 300 lb (136 kg) for Handgear A vessels and 75 lb (34 kg) for Handgear B vessels. If the GOM or GB cod limit for vessels fishing on a groundfish DAS drops below 300 lb (136 kg), then the respective Handgear A cod trip limit must be reduced to the same limit. Similarly, the Handgear B trip limit must be adjusted proportionally to the DAS limit (rounded up to the nearest 25 lb (11 kg)).

This action sets a GOM cod possession limit of 50 lb (23 kg) per DAS for vessels fishing on a groundfish DAS, which is 94 percent lower than the 800-lb (363-kg) per DAS limit specified in the regulations for these vessels. As a result, the Handgear A trip limit for GOM cod is set at 50 lb (23 kg) per trip. The Handgear B trip limit for GOM cod is reduced proportionally (94-percent reduction) and rounded up to 25 lb (11 kg) per trip.

Additionally, this action sets a GB cod possession limit of 250 lb (113 kg) per DAS for vessels fishing on a groundfish DAS which is 87.5 percent lower than the 2,000-lb (907-kg) per DAS limit specified in the regulations for these vessels. As a result, the Handgear A trip limit for GB cod would be set at 250 lb (113 kg) per trip, and the Handgear B trip limit for GB cod would be reduced proportionally (87.5-percent reduction) and rounded up to a 25 lb (11 kg) per trip.

Vessels with a Small Vessel category permit can possess up to 300 lb (136 kg) of cod, haddock, and yellowtail flounder, combined, per trip. Additionally, for these vessels, the trip limit for all stocks is equal to the landing limits per DAS applicable to multispecies DAS vessels. This is necessary to ensure that the trip limit applicable to the Small Vessel category permit is consistent with reductions to the trip limits for other common pool vessels, as described above.

Weekly quota monitoring reports for the common pool fishery can be found on our website at: http://www.greateratlantic.fisheries.noaa.gov/ro/fso/MultiMonReports.htm. We will continue to monitor common pool catch through vessel trip reports, dealer-reported landings, vessel monitoring system catch reports, and other available information and, if necessary, we will make additional adjustments to common pool management measures.

Table 1—2019 Fishing Year Common Pool Possession and Trip Limits
Stock | 2019 trip limit
GB Cod (outside Eastern U.S./Canada Area) | 250 lb (113 kg) per DAS, up to 500 lb (227 kg) per trip.
GB Cod (inside Eastern U.S./Canada Area).
GB Cod [Closed Area II Yellowtail Flounder/Haddock SAP (for targeting haddock)] | 500 lb (227 kg) per trip.
GOM Cod | 50 lb (23 kg) per DAS, up to 100 lb (45 kg) per trip.
GB Haddock | 100,000 lb (45, 359 kg) per trip.
GOM Haddock | 500 lb (227 kg) per DAS, up to 1,000 lb (454 kg) per trip.
GB Yellowtail Flounder | 100 lb (45 kg) per trip.
SNE/MA Yellowtail Flounder | 100 lb (45 kg) per DAS, up to 200 lb (91 kg) per trip.
Cape Cod (CC)/GOM Yellowtail Flounder | 750 lb (340 kg) per DAS, up to 1,500 lb (680 kg) per trip.
American Plaice | 750 lb (340 kg) per DAS, up to 1,500 lb (680 kg) per trip.
Witch Flounder | 600 lb (272 kg) per trip.
GB Winter Flounder | 250 lb (113 kg) per trip.
GOM Winter Flounder | 2,000 lb (907 kg) per trip.
SNE/MA Winter Flounder | 2,000 lb (907 kg) per DAS, up to 4,000 lb (1,814 kg) per trip.
Redfish | Unlimited.
White Hake | 1,500 lb (680 kg) per trip.
Pollock | Unlimited.
Atlantic Halibut | 1 fish per trip.
Windowpane Flounder | Possession Prohibited.
Ocean Pout
Atlantic Wolffish

Table 2—2019 Fishing Year Cod Trip Limits for Handgear A, Handgear B, and Small Vessel Category Permits
Permit | Initial 2019 trip limit
Handgear A GOM Cod | 50 lb (23 kg) per trip.
Handgear A GB Cod | 250 lb (113 kg) per trip.
Handgear B GOM Cod | 25 lb (11 kg) per trip.
Handgear B GB Cod | 25 lb (11 kg) per trip.
Small Vessel Category | 300 lb (136 kg) of cod, haddock, and yellowtail flounder combined; additionally, vessels are limited to the common pool DAS limit for all stocks.

As a reminder, Table 3 includes the initial common pool trimester Total Allowable Catches (TACs) for fishing year 2019. These trimester TACS are based on preliminary sector rosters. However, individual permit holders have until the end of the 2018 fishing year (April 30, 2019) to drop out of a sector and fish in the common pool fishery for the 2019 fishing year. Therefore, it is possible that the sector and common pool catch limits, including the trimester TACs, may change due to changes in sector rosters. If changes to sector rosters occur, updated catch limits and/or possession and trip limits will be announced as soon as possible in the 2019 fishing year to reflect the final sector rosters as of May 1, 2019. On April 19, 2019, we also published a proposed rule to request comment on Framework Adjustment 58 measures (84 FR 16441). If approved, that rule could make additional changes to common pool sub-ACLs, as well as common pool possession and trip limits.

Table 3—Common Pool Trimester Total Allowable Catches for Fishing Year 2019 (mt, live weight)
Stock | Trimester total allowable catches (mt): Trimester 1 | Trimester total allowable catches (mt): Trimester 2 | Trimester total allowable catches (mt): Trimester 3
GB Cod | 11.1 | 13.5 | 15.1
GOM Cod | 5.8 | 3.9 | 2.1
GB Haddock | 86.1 | 105.2 | 127.5
GOM Haddock | 25.1 | 24.1 | 43.6
GB Yellowtail Flounder | 0.7 | 1.1 | 1.8
SNE/MA Yellowtail Flounder | 1.3 | 1.7 | 3.2
CC/GOM Yellowtail Flounder | 9.7 | 4.4 | 2.9
American Plaice | 19.2 | 2.1 | 4.7
Witch Flounder | 10.1 | 3.7 | 4.6
GB Winter Flounder | 0.5 | 1.4 | 4.1
GOM Winter Flounder | 6.5 | 6.7 | 4.4
Redfish | 12.8 | 15.9 | 22.5
White Hake | 7.8 | 6.4 | 6.4
Pollock | 64.4 | 80.5 | 85.1

Closed Area II Yellowtail Flounder/Haddock Special Access Program

The regulations at § 648.85(b)(3)(vii) provide the Regional Administrator with authority to determine the total number of trips that may be declared into the Closed Area II Yellowtail Flounder/Haddock Special Access Program (SAP) to target yellowtail flounder. This action allocates zero trips for common pool vessels to target yellowtail flounder within the Closed Area II Yellowtail Flounder/Haddock SAP for fishing year 2019. As a result, this SAP is only open to target haddock, from August 1, 2019, through January 31, 2020. Northeast multispecies vessels fishing in the SAP must fish with a haddock separator trawl, a Ruhle trawl, or hook gear. Vessels may not fish in this SAP using flounder trawl nets.

The Regional Administrator (RA) has the authority to determine the allocation of the total number of trips into the Closed Area II Yellowtail Flounder/Haddock SAP based on several criteria, including the GB yellowtail flounder catch limit and the amount of GB yellowtail flounder caught outside of the SAP. Allocating trips to target yellowtail flounder in the Closed Area II Yellowtail Flounder/Haddock SAP is discretionary if the available GB yellowtail flounder catch is insufficient to support at least 150 trips with a 15,000-lb (6,804-kg) trip limit, for a total catch of 2,250,000 lb (1,020,600 kg). This calculation considers projected catch from the area outside the SAP. Based on the fishing year 2019 GB yellowtail flounder groundfish sub-ACL implemented by Framework Adjustment 57 of 526,905 lb (239,000 kg), there is insufficient GB yellowtail flounder to allocate any trips to the SAP. Further, given the low GB yellowtail flounder catch limit, catch rates outside of this SAP are more than adequate to fully harvest the 2019 GB yellowtail flounder allocation.

On April 19, 2019, we published a proposed rule to request comment on Framework 58 measures. The New England Fishery Management Council's recommended 2019 GB yellowtail flounder sub-ACL is a 105 mt reduction from the 2019 sub-ACL implemented by Framework 57, which was used in the calculation for the determination not to allocate any trips to the SAP. As a result, we do not expect the final rule implementing Framework 58 would allocate trips to the SAP to target yellowtail flounder.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be contrary to the public interest.

The regulations at § 648.86(o) authorize the RA to adjust the Northeast multispecies possession and trip limits for common pool vessels in order to prevent the overharvest or underharvest of the pertinent common pool quotas. This action sets the common pool possession and trip limits on May 1, 2019, for the 2019 fishing year. The possession and trip limits implemented through this action help to ensure that the Northeast multispecies common pool fishery may achieve the optimum yield for the relevant stocks, while controlling catch to help prevent inseason closures or quota overages. Delay of this action would leave the common pool fishery with the possession and trip limits found in § 648.86, which are too high to control catch. This would likely lead to early closure of a trimester and quota overages. Any overage of the quota for either of the first two trimesters must be deducted from the Trimester 3 quota, which could substantially disrupt the trimester structure and intent to distribute the fishery across the entire fishing year. An overage reduction in Trimester 3 would further reduce fishing opportunities for common pool vessels and likely result in early closure of Trimester 3. Additionally, any overage of the annual quota would be deducted from common pool's quota for the next fishing year, to the detriment of this stock.

The regulations at § 648.85(b)(3)(vii) require that the Regional Administrator announce the total number of allowed trips by common pool vessels that may be declared into the Closed Area II Yellowtail Flounder/Haddock SAP on or about June 1. On April 19, 2019, we published the proposed rule for Framework 58 to the Northeast Multispecies FMP, and the final rule for that action may not be implemented by June 1. As such, we have included the announcement in this inseason action to meet this regulatory requirement. Doing so also ensures that the fishing industry has sufficient notice in order to plan their activities in the new fishing year.

For the reasons above, delay of this action for prior notice and the opportunity for public comment and the 30-day delayed effectiveness period would undermine management objectives of the FMP and cause unnecessary negative economic impacts to the common pool fishery.

Authority: 16 U.S.C. 1801 et seq.

Dated: April 23, 2019.
Karen H. Abrams,
Acting Director, Office of Sustainable Fisheries, National Marine Fisheries Service.

[FR Doc. 2019-08441 Filed 4-25-19; 8:45 am]

BILLING CODE 3510-22-P